DEPARTMENT OF TRANSPORTATION

Federal Aviation Administration

14 CFR Part 39

[Docket No. FAA-2005-21464; Directorate Identifier 2005-CE-32-AD; Amendment 39-14320; AD 2005-20-24]

RIN 2120-AA64

Airworthiness Directives; SOCATA—Groupe AEROSPATIALE Model TBM 700 Airplanes

AGENCY: Federal Aviation Administration (FAA), DOT.

ACTION: Final rule.

SUMMARY: The FAA adopts a new airworthiness directive (AD) for certain SOCATA—Groupe AEROSPATIALE (SOCATA) Model TBM 700 airplanes. This AD requires you to inspect the fuselage skin in the VHF1 antenna mounting area for cracks and loose rivets. This AD also requires you to modify the area if you find cracks or loose rivets. This AD results from mandatory continuing airworthiness information (MCAI) issued by the airworthiness authority for France. We are issuing this AD to detect and correct cracks in the fuselage skin, which could result in loss of aircraft pressurization. Loss of aircraft pressurization could lead to flight crew incapacitation.

DATES: This AD becomes effective on November 9, 2005.

As of November 9, 2005, the Director of the Federal Register approved the incorporation by reference of certain publications listed in the regulation.

ADDRESSES: To get the service information identified in this AD, contact EADS SOCATA Tarbes, Direction des Services, 65921 Tarbes Cedex 9, France; telephone: 33 (0)5 62.41.73.00; facsimile: 33 (0)5 62.41.76.54; or SOCATA AIRCRAFT, North Perry Airport, 7501 Pembroke Road, Pembroke Pines, Florida 33023.

To view the AD docket, go to the Docket Management Facility; U.S. Department of Transportation, 400 Seventh Street, SW., Nassif Building, Room PL-401, Washington, DC 20590-001 or on the Internet at http://dms.dot.gov. The docket number is FAA-2005-21464; Directorate Identifier 2005-CE-32-AD.

FOR FURTHER INFORMATION CONTACT: Peter L. Rouse, Aerospace Engineer, FAA, Small Airplane Directorate, 901 Locust, Room 301, Kansas City, Missouri 64106; telephone: (816) 329-4135; facsimile: (816) 329-4090.

SUPPLEMENTARY INFORMATION:

Discussion

What events have caused this AD? The Direction Générale de L'Aviation Civile (DGAC), which is the airworthiness authority for France, notified FAA that an unsafe condition may exist on certain SOCATA Model TBM 700 airplanes. The DGAC reports cracks in the fuselage skin by the passenger door on the affected airplanes. These airplanes have a VHF1 antenna mounted under the fuselage between frame C12 and C13 or C13 and C13bis.

Investigations reveal that antenna vibrations are causing the cracks.

What is the potential impact if FAA took no action? If not detected and corrected, cracks in the fuselage skin could cause loss of aircraft pressurization. Loss of pressurization could lead to flight crew incapacitation.

Has FAA taken any action to this point? We issued a proposal to amend part 39 of the Federal Aviation Regulations (14 CFR part 39) to include an AD that would apply to certain SOCATA Model TBM 700 airplanes. This proposal was published in the Federal Register as a notice of proposed rulemaking (NPRM) on July 7, 2005 (70 FR 39204). The NPRM proposed to require you to inspect the fuselage skin where the VHF1 antenna mounts under the fuselage between frame C12 and C13 or C13 and C13bis for cracks and loose rivets. The NPRM also proposes to require you to modify the VHF1 antenna bracket and the antenna/fuselage interface.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 185 airplanes in the U.S. registry.

What is the cost impact of this AD on owners/operators of the affected airplanes? We estimate the following costs to do the inspection:

Labor cost | Parts cost | Total cost per airplane | Total cost on U.S. operators
1 work hour × $65 per hour = $65 | Not applicable | $65 | $65 × $185 = $12,025

We estimate the following costs to do the modification.

Labor cost | Parts cost | Total cost per airplane
4 work hours × $65 per hour = $260 | $181 | $441

Authority for This Rulemaking

What authority does FAA have for issuing this rulemaking action? Title 49 of the United States Code specifies the FAA's authority to issue rules on aviation safety. Subtitle I, section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2005-21464; Directorate Identifier 2005-CE-32-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2005-20-24 Socata—Groupe Aerospatiale: Amendment 39-14320; Docket No. FAA-2005-21464; Directorate Identifier 2005-CE-32-AD.

When Does This AD Become Effective?

(a) This AD becomes effective on November 9, 2005.

What Other ADs Are Affected by This Action?

(b) None.

What Airplanes Are Affected by This AD?

(c) This AD affects the following Model TBM 700 airplanes, serial numbers 1 through 255; 257 through 267; and 270, that are:

(1) equipped with a VHF1 antenna mounted under the fuselage between frame C12 and C13 or C13 and C13bis; and

(2) certificated in any category.

What Is the Unsafe Condition Presented in This AD?

(d) This AD is the result of mandatory continuing airworthiness information (MCAI) issued by the airworthiness authority for France. The actions specified in this AD are intended to detect and correct cracks in the fuselage skin, which could result in loss of aircraft pressurization. Loss of aircraft pressurization could lead to flight crew incapacitation.

What Must I Do To Address This Problem?

(e) To address this problem, you must do the following:

Note: The EADS SOCATA Mandatory Service Bulletin TBM Aircraft, SB 70-103, Amendment 1, ATA No. 53, dated September 2003, allows the pilot to perform the visual inspection of the fuselage skin in the VHF1 antenna mount area for cracks and loose rivets. The Federal Aviation Regulations (14 CFR 43.3) only allow the pilot to perform preventive maintenance as described in 14 CFR part 43, App. A, paragraph (c). These visual inspections are not considered preventive maintenance under 14 CFR part 43, App. A, paragraph (c). Therefore, an appropriately-rated mechanic must perform all actions of this AD.

Actions | Compliance | Procedures
(1) Inspect the fuselage skin in the VHF1 antenna mount area between frame C12 and C13 or C13 and C13bis for cracks and loose rivets | Within the next 50 hours time-in-service (TIS) after November 9, 2005, (the effective date of this AD). Repetitively inspect thereafter at intervals not to exceed 50 hours TIS until the modification in paragraph (e)(2) of this AD is done. Modifying the VHF1 antenna bracket and interface area terminates the repetitive inspection requirement of this AD | Follow EADS SOCATA Mandatory Service Bulletin TBM Aircraft, SB 70-103, Amendment 1, ATA No. 53, dated September 2003.
(2) Modify the VHF1 antenna bracket and the antenna/fuselage interface | At whichever of the following that occurs first: (i) Before further flight anytime a crack or loose rivet is found during any inspection required in paragraph (e)(1) of this AD (ii) Within 100 hours TIS or 12 months after November 9, 2005 (the effective date of this AD), whichever occurs later | Follow EADS SOCATA Recommended Service Bulletin TBM Aircraft, SB 70-111, ATA No. 53, dated October 2003, and the applicable maintenance manual.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Peter L. Rouse, Aerospace Engineer, FAA, Small Airplane Directorate, 901 Locust, Room 301, Kansas City, Missouri 64106; telephone: (816) 329-4135; facsimile: (816) 329-4090.

Is There Other Information That Relates to This Subject?

(g) French AD Number F-2003-367 R1, Distribution A, Issue date: February 4, 2004, also addresses the subject of this AD.

Does This AD Incorporate Any Material by Reference?

(h) You must do the actions required by this AD following the instructions in EADS SOCATA Mandatory Service Bulletin TBM Aircraft, SB 70-103, Amendment 1, ATA No. 53, dated September 2003, and EADS SOCATA Recommended Service Bulletin TBM Aircraft, SB 70-111, ATA No. 53, dated October 2003. The Director of the Federal Register approved the incorporation by reference of this service bulletin in accordance with 5 U.S.C. 552(a) and 1 CFR part 51. To get a copy of this service information, contact EADS SOCATA Tarbes, Direction des Services, 65921 Tarbes Cedex 9, France; telephone: 33 (0)5 62.41.73.00; facsimile: 33 (0)5 62.41.76.54; or SOCATA AIRCRAFT, North Perry Airport, 7501 Pembroke Road, Pembroke Pines, Florida 33023. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2005-21464; Directorate Identifier 2005-CE-32-AD.

Issued in Kansas City, Missouri, on September 28, 2005.
David R. Showers,
Acting Manager, Small Airplane Directorate, Aircraft Certification Service.

[FR Doc. 05-19930 Filed 10-11-05; 8:45 am]

BILLING CODE 4910-13-P